COUNCIL ON ENVIRONMENTAL QUALITY

White House Task Force on Energy Project Streamlining

AGENCY: Council on Environmental Quality.

ACTION: Notice and request for comments.

SUMMARY: On May 18, 2001, the President signed Executive Order 13212, recognizing the importance of environmentally sound production and transmission of energy to all American people. The Order established a Federal interagency task force (Task Force), chaired by the Chairman of the Council on Environmental Quality (CEQ), to work with and monitor Federal Agencies' efforts to expedite their review of permits or take other actions necessary to accelerate and make more efficient the Federal decision making process for energy related projects, while maintaining safety, public health, and environmental protections. This Task Force was also charged with helping Agencies create mechanisms to coordinate Federal, State, tribal and local permitting in geographic areas where increased permitting activity is expected.

CEQ announces: (1) The availability of a proceedings report of the first year of effort by the Task Force; (2) invites suggestions for newly proposed or upcoming energy-related projects or issues that may benefit from facilitation by the Task Force in the decision making process; (3) extends an invitation to any interested party to request a meeting with the Task Force to discuss newly proposed or upcoming renewable or conventional energy-related projects, environmental mitigation measures, best practices, or other topics that would help establish a more effective and efficient decision making process to allow the Nation's energy resources to be available to the American public in an environmentally responsible and safe manner.

DATES: Written comments should be submitted on or before October 1, 2003.

ADDRESSES: Electronic copies of the proceedings report can be obtained at: http://www.etf.energy.gov. If you would like a printed copy, please mail a request to Records Manager, White House Task Force on Energy Project Streamlining, WH-1, 1000 Independence Ave. SW., Washington, DC 20585. Printed copies will be available by March 1, 2003.

Written suggestions for newly proposed or upcoming energy-related projects or issues that may benefit from facilitation of the decision making process by the Task Force, may be submitting by using the downloadable word processing forms found at http://www.etf.energy.gov. You may submit your comments or completed form, as an attachment, to an e-mail addressed to whtf.projects@hq.doe.gov. You may fax a copy of your comments to 202-586-2999, Attn: Director or mail your comments to Director, White House Task Force on Energy Project Streamlining, WH-1, 1000 Independence Ave. SW., Washington, DC 20585.

Requests for meetings with the Task Force may be made by calling (202) 586-3464 or by utilizing the downloadable form and e-mailing it to whtf.meetings@hq.doe.gov.

FOR FURTHER INFORMATION CONTACT: White House Task Force on Energy Project Streamlining at (202) 586-3464.

SUPPLEMENTARY INFORMATION:

Abstract

Executive Order 13212, signed by the President in Washington, DC, on May 18, 2001, Actions to Expedite Energy-Related Projects, established a Federal interagency task force, chaired by the Chairman, CEQ, to work with and monitor Federal Agencies in their efforts to expedite their review of permits or similar actions, as necessary, to accelerate the completion of energy related projects, increase energy production and conservation, and improve transmission of energy. In addition, the Task Force would monitor and assist Agencies in setting up appropriate mechanisms to coordinate Federal, State, tribal, and local permitting in geographic areas where increased permitting activity is expected.

The Task Force worked during the first year to address ongoing permit application issues for a wide variety of energy projects that were submitted in response to the Federal Register notice published on August 20, 2001 (66 FR 43586), requesting comments from the public. By working through an operational approach that facilitated interagency coordination and addressed impediments to Federal Agencies' finalization of decisions on energy-related projects, the Task Force helped manage the Federal Agency decision making process by setting priorities, scheduling activities in accordance with those priorities, identifying staffing and resource needs, facilitating issue resolution, and measuring the achievements of federal agencies in implementing Executive Order 13212.

The experience gained by the Task Force-while helping to streamline decisions about energy-related projects and working to resolve coordination issues—made it apparent that to identify and implement processes that address systemic improvements and, where appropriate, regulatory or legislative changes, the Task Force needed to be involved as early in the permit process as possible. This would allow the Task Force to identify impediments, to resolve interagency priority conflicts, to help incorporate and resolve environmental issues, and to develop more streamlined processes at an earlier stage in the permit application decision process.

To that end, the Council on Environmental Quality requests suggestions of energy-related projects that have either recently been submitted for permit approvals or will be submitted within nine (9) months of this notice and which meet the Administration's goal of providing for the environmentally sound production and transmission of energy to all American people. The Council on Environmental Quality also requests submission of environmental mitigation measures, best practices, alternative dispute resolution, or other topics that would help establish a more effective and efficient decision making process.

The Council on Environmental Quality expects to receive information from many interested persons (e.g., public interest groups, government, academia, industry) about particular energy projects and opportunities to improve agency decision-making on energy projects.

Dated: February 19, 2003.
James L. Connaughton,
Chairman, Council on Environmental Quality.

[FR Doc. 03-4308 Filed 2-21-03; 8:45 am]

BILLING CODE 3125-01-M